DEPARTMENT OF THE INTERIOR

National Park Service

National Register of Historic Places; Notification of Pending Nominations

Nominations for the following properties being considered for listing in the National Register were received by the National Park Service before August 12, 2000. Pursuant to section 60.13 of 36 CFR part 60 written comments concerning the significance of these properties under the National Register criteria for evaluation may be forwarded to the National Register, National Park Service, 1849 C St. NW, NC400, Washington, DC 20240. Written comments should be submitted by September 5, 2000.

Carol D. Shull,
Keeper of the National Register.

California

Alameda County

Heinhold's First and Last Chance Saloon, 56 Jack London Square, Oakland, 00001067

San Bernardino County

Black Canyon—Inscription Canyon, Address Restricted, Hinkley, 00001046

Colorado

Las Animas County

Rourke Ranch Historic District, Comanche National Grassland, La Junta, 00001047

Illinois

Cook County

West Town State Bank Building, 2400 W. Madison St., Chicago, 00001049

Saline County

Saline County Poor Farm, 1600 Feazel Rd., Harrisburg, 00001048

Maryland

Frederick County

Bloomsbury, 2062 Thurston Rd., Frederick, 00001053

Queen Anne's County

Churchill Theatre—Community Building, MD 19, Church Hill, 00001051

Washington County

Funkstown Historic District, Roughly bounded by Antietam Creek, US 40A, Stouffer Ave., and High St., Funkstown, 00001050

Woburn Manor, 7661 Dam #4 Rd., Sharpsburg, 00001052

Mississippi

Jefferson County

Church Hill Rural Historic District, MS 553 and Church Hill Rd., 1 mi. S of Christ Episcopal Church, Natchez, 00001054

Montgomery County

Stafford's Wells Hotel, MS 1, Winona, 00001059

Tippah County

US Post Office, Old—Ripley, (Mississippi Post Offices 1931-1941 TR) 301 N. Main St., Ripley, 00001056

Tishomingo County

Bear Creek Fishweir #1, Tishomingo State Park, Tishomingo, 00001057

Bear Creek Fishweir #2, Tishomingo State Park, Tishomingo, 00001058

Warren County

Carr Junior High School, (Vicksburg MPS) 1805 Cherry St., Vicksburg, 00001055

Missouri

Lafayette County

Old Neighborhoods Historic District (Boundary Decrease), 1312, 1401, 1406, 1413, 1415, 1417, 1500, 1501, and 1502 Lafayette St., Lexington, 00001060

New Jersey

Essex County

Four Corners Historic District, Roughly bounded by Raymond Blvd., Mulberry St., Hill St. and Washington St., Newark, 00001061

New York

Westchester County

Washington Irving Memorial, Broadway and Sunnyside Ln., Irvington, 00001062

Ohio

Cuyahoga County

New England Building, 617-637 Euclid Ave., 614-626 Vincent Ave., Cleveland, 00001065

Montgomery County

Red Oak—Sherman, William C., House, 1231 Hook Estates Dr., Dayton, 00001064

Warren County

Decker, Henry, Farmstead, 2595 W. Lower Springboro Rd., Springboro, 00001063

Utah

Cache County

Whittier School, 280 North 400 East, Logan, 00001066

Sanpete County

Centerfield School and Meetinghouse, (Mormon Church Buildings in Utah MPS) 140 S. Main St., Centerfield, 00001068

Wisconsin

Manitowoc County

Central Park Historic District, Roughly bounded by 19th St., Adams St., 16th St. and Jefferson St., Two Rivers, 00001069

Ozaukee County

Port Washington Downtown Historic District, Roughly along N. Franklin St., from E Jackson St. to E Grand Ave., Port Washington, 00001070

A Request of for Removal has been made for the following resources:

Iowa

Louisa County

Springer, Judge Francis, House, S of Columbus City, Columbus City vicinity, 83000388

Minnesota

Nicollet County

St. Peter Central School, 300 S. 5th St., St. Peter, 80002092

[FR Doc. 00-21233 Filed 8-18-00; 8:45 am]

BILLING CODE 4310-70-P